DEPARTMENT OF TRANSPORTATION

Federal Aviation Administration

14 CFR Part 71

[Docket No. FAA-2003-14735; Airspace Docket No. 03-AEA-02]

Amendment of Class D Airspace, Rome, NY

AGENCY: Federal Aviation Administration (FAA) DOT.

ACTION: Final rule; request for comments.

SUMMARY: This amendment removes the description of the Class D airspace designated for Rome, NY. The commissioning of the Airport Traffic Control Tower (ATCT) at Griffiss Airpark, Rome, NY has been delayed indefinitely. Therefore, the Class D airspace designated for Griffiss Airpark cannot be supported and will be removed.

DATES: May 7, 2003.

ADDRESSES: Send comments on the rule in triplicate to: Manager, Airspace Branch, AEA-520, Docket No. FAA-2003-14735; Airspace Docket No. 03-AEA-02, FAA Eastern Region, 1 Aviation Plaza, Jamaica, NY 11434-4809.

The official docket may be examined in the Office of the Regional Counsel, AEA-7, FAA Eastern Region, 1 Aviation Plaza, Jamaica, NY 11434-4809; telephone (718) 553-3255. An informal docket may also be examined during normal business hours at the address listed above.

FOR FURTHER INFORMATION CONTACT: Mr. Francis Jordan, Airspace Specialist, Airspace Branch, AEA-520, Air Traffic Division, Eastern Region, Federal Aviation Administration, 1 Aviation Plaza, Jamaica, NY 11434-4809, telephone: (718) 553-4521.

SUPPLEMENTARY INFORMATION: Although this action is a final rule, which involves the amendment of the Class D at Rome, NY, by removing that airspace designated for Griffiss Airpark, and was not preceded by notice and public procedure, comments are invited on the rule.

Comments that provide the factual basis supporting the views and suggestions presented are particularly helpful in evaluating the effects of the rule and in determining whether additional rulemaking is required. Comments are specifically invited on the overall regulatory, aeronautical, environmental, and energy-related aspects of the rule which might suggest the need to modify the rule.

History

Federal Register document 02-29902, Airspace Docket No. 02-AEA-13, published in the Federal Register on November 25, 2002 (67 FR 70533-70534) established the description of the Class D airspace area at Room, NY. Federal Register document 03-6333, Airspace Docket No. 02-AEA-13, published in the Federal Register on March 17, 2003 (68 FR 12582-12583) delayed the effective date of the establishment of the Class D airspace at Rome, NY. Subsequently, the commissioning date for the ATCT has been delayed indefinitely and the need for Class D airspace cannot be supported.

The Rule

This amendment to part 71 of the Federal Aviation Regulations (14 CFR part 71) removes the description of the Class D airspace at Rome, NY, by removing that airspace designated for Griffiss Airpark. The commissioning of the ATCT has been delayed indefinitely. As a result the Rome, NY, Class D airspace is no longer required for air safety. Class D airspace designations for airspace extending upward from the surface of the earth are published in paragraph 5000 of FAA Order 7400.9K, dated August 30, 2002, and effective September 16, 2002, which is incorporated by reference in 14 CFR 71.1.

Under the circumstances presented, the FAA concludes that the more restrictive Class D airspace at Rome, NY is no longer supported and the flight rules pertinent to Class E airspace should apply. Accordingly, since this action merely reverts the Rome, NY, Class D airspace to Class E, notice and public procedure under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation it is certified that this rule will not have significant economic impact on a substantial number of small entities under the criteria of the Regulatory Flexibility Act.

List of Subjects in 14 CFR Part 71

Airspace, Incorporated by reference, Navigation (air).

Adoption of the Amendment

In consideration of the foregoing, the Federal Aviation Administration amends 14 CFR part 71 as follows:

PART 71—[AMENDED]

1. The authority citation for part 71 continues to read as follows:

Authority: 49 U.S.C. 106(g), 40103, 40113, 40120; E.O. 10854; 24 FR 9565, 3 CFR, 1959-1963 Comp., p. 289.

§ 71.1 [Amended]

2. The incorporation by reference in 14 CFR 71.1 of the Federal Aviation Administration Order 7400.9K, Airspace Designations and Reporting Points, dated August 30, 2002 and effective September 16, 2002, is amended as follows:

Paragraph 5000 Class D airspace areas extending upward from the surface of the earth.

* * * * *

AEA NY D Rome, NY [Removed]

* * * * *

Dated: Issued in Jamaica, New York on April 17, 2003.
Loretta Martin,
Acting Assistant Manager, Air Traffic Division, Eastern Region.

[FR Doc. 03-11232 Filed 5-6-03; 8:45 am]

BILLING CODE 4910-13-M